DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on February 28, 2003. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Water Contracts and Repayment Office, Bureau of Reclamation, PO Box 25007, Denver, Colorado 80225-0007; telephone 303-445-2902.

SUPPLEMENTARY INFORMATION: Consistent with section 9(f) of the Reclamation Project Act of 1939 and 43 CFR 426.20 of the rules and regulations published in 52 FR 11954, April 13, 1987, Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

The February 28, 2003, notice should be used as a reference point to identify changes. The numbering system in this notice corresponds with the numbering system in the February 28, 2003, notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

O&M—Operation and Maintenance

P-SMBP—Pick-Sloan Missouri Basin Program

PPR—Present Perfected Right

SOD—Safety of Dams

WD—Water District

Pacific Northwest Region: Bureau of Reclamation, 1150 North Curtis Road, Suite 100, Boise, Idaho 83706-1234, telephone 208-378-5223.

Discontinued contract action:

7. North Unit ID and/or city of Madras, Deschutes Project, Oregon: Long-term municipal water service contract for provision of approximately 125 acre-feet annually from the project water supply to the city of Madras. City of Madras and North Unit ID have decided to withdraw their request for a long-term contract at this time.

Mid-Pacific Region: Bureau of Reclamation, 2800 Cottage Way, Sacramento, CA 95825-1898, telephone 916-978-5250.

New contract action:

40. Pajaro Valley Water Management Agency, CVP, California: Proposed assignment of 27,000 acre-feet of Broadview Water District's entire CVP supply to the Pajaro Valley Water Management Agency for M&I use.

Completed contract action:

25. Friant Water Users Authority and San Luis and Delta-Mendota Water Authority, CVP, California: Amendments to the Operation, Maintenance, and Replacement and Certain Financial and Administrative Activities' Agreements to implement certain changes to the Direct Funding provisions to comply with applicable Federal law. Friant Water Users Authority amendatory contract was executed on February 25, 2003, and the San Luis and Delta-Mendota Water Authority amendatory contract was executed on February 18, 2003.

Lower Colorado Region: Bureau of Reclamation, PO Box 61470 (Nevada Highway and Park Street), Boulder City, NV 89006-1470, telephone 702-293-8536.

New contract actions:

46. Sunrise Water Company, CAP, Arizona: Proposed assignment of subcontract for 944 acre-feet of CAP M&I water to the Central Arizona Water Conservation District, which is exercising its authority as the Central Arizona Groundwater Replenishment District.

47. West End Water Company, CAP, Arizona: Proposed assignment of subcontract for 157 acre-feet of CAP M&I water to the Central Arizona Water Conservation District, which is exercising its authority as the Central Arizona Groundwater Replenishment District.

48. New River Utilities Company, CAP, Arizona: Proposed assignment of subcontract for 1,885 acre-feet of CAP M&I water to the Central Arizona Water Conservation District, which is exercising its authority as the Central Arizona Groundwater Replenishment District.

49. Cibola Valley IDD, BCP, Arizona: Contingent upon completion of sale documents, proposed assignment and transfer of a portion of Cibola Valley IDD's right to divert up to 24,120 acre-feet of Colorado River water per year to the Mohave County Water Authority, the Hopi Tribe, and Reclamation.

50. Metropolitan WD and others, BCP, Arizona and California: Contract to provide for the recovery by the Metropolitan WD of interstate underground storage credits previously placed in underground storage in Arizona by the Central Arizona Water Conservation District under agreements executed in 1992 and 1994, and to document the Arizona Water Banking Authority's responsibility in agreeing to Arizona's forbearance in the use of Colorado River water to permit the Secretary to release that quantity of water for diversion and use by the Metropolitan WD.

51. Wellton-Mohawk IDD, BCP, Arizona: Amend contract No. 1-07-30-W0021 to revise the authority to deliver domestic use water from 5,000 to 10,000 acre-feet per calendar year, which is within the District's current overall Colorado River Water Entitlement.

Modified contract actions:

16. Arizona State Land Department, BCP, Arizona: Colorado River water delivery contract for 1,534 acre-feet per year for domestic use.

27. Litchfield Park Service Company, CAP, Arizona: Proposed partial assignments of subcontract for 5,590 acre-feet of CAP M&I water to the Central Arizona Water Conservation District, which is exercising its authority as the Central Arizona Groundwater Replenishment District, and to the cities of Avondale, Carefree, and Goodyear.

32. Robson Communities, Southern Arizona Water Rights Settlement Act, Arizona: Contract with Robson Communities for the sale of 3,500 acre-feet of long-term water storage credits accrued in the Tucson area during calendar years 2000-2001.

Upper Colorado Region: Bureau of Reclamation, 125 South State Street, Room 6107, Salt Lake City, Utah 84138-1102, telephone 801-524-4419.

New contract actions:

1. (e) Upper Gunnison Water Conservancy District, Aspinall Storage Unit, CRSP, Colorado: Due to the continued extreme drought conditions in the Upper Gunnison River Basin, the District has requested a temporary 1-year water service contract for up to a maximum of 3,000 acre-feet of water out of Blue Mesa Reservoir to be resold by the District under temporary, 1-year, third-party contracts to water users located within the District's boundaries.

(f) Town of Lake City, Aspinall Storage Unit, CRSP, Colorado: Lake City has requested a 40-year water service contract for an additional 25 acre-feet of water out of Blue Mesa Reservoir to support its plan of augmentation. Lake City is working with the State of Colorado, Water Division 4 to develop a specific plan for using the augmentation water in accord with Colorado water law. Reclamation and Lake City have an existing 40-year contract, No. 9-07-40-R0790, dated May 5, 1989, for 25 acre-feet of water out of Blue Mesa Reservoir.

(g) Lazear Domestic Water Company, Aspinall Storage Unit, CRSP, Colorado: Lazear has requested a 40-year water service contract for an additional 44 acre-feet of water out of Blue Mesa Reservoir to support its plan of augmentation, Case No. 02WC253, District Court, Water Division 4. Reclamation and Lazear have an existing 25-year contract, No. 98-07-40-R5000, dated January 29, 1998, for 44 acre-feet of water out of Blue Mesa Reservoir.

(h) Lamar Northworthy, Aspinall Storage Unit, CRSP, Colorado: Mr. Northworthy has requested a 40-year water service contract for 2 acre-feet of water out of Blue Mesa Reservoir to support his plan of augmentation, Case No. 02WC240, District Court, Water Division 4.

(i) Heatherwood Villas Condominium Association, Aspinall Storage Unit, CRSP, Colorado: The Association has requested a 40-year water service contract for 2 acre-feet of water out of Blue Mesa Reservoir to support its plan of augmentation. The Association is in the process of filing a plan of augmentation with the State of Colorado, Water Division 4.

(j) Riverland Lot Owners Association, Aspinall Storage Unit, CRSP, Colorado: The Association has requested a 40-year water service contract for 14 acre-feet of water out of Blue Mesa Reservoir to support its plan of augmentation. The Association is in the process of filing a plan of augmentation with the State of Colorado, Water Division 4.

19. Animas-La Plata Water Conservancy District, Animas-La Plata Project, Colorado and New Mexico: Contract to transfer the operation, maintenance, and replacement responsibilities of most Project facilities to the District, pursuant to Section 6 of the Reclamation Act of June 17, 1902, and other Reclamation laws.

20. South Cache Water Users Association, Hyrum Project, Utah: Contract to allow the Association to convert up to 1,000 acre-feet of project irrigation water annually for municipal, domestic, and industrial uses.

Discontinued contract actions:

(a) Russell, Harrison F. and Patricia E.; Aspinall Unit; CRSP; Colorado: Contract for 1 acre-foot to support an augmentation plan, Case No. 97CW39, Water Division Court No. 4, State of Colorado, to provide for a single-family residential well, including home lawn and livestock watering (non-commercial).

(b) Stephens, Walter Daniel; Aspinall Unit; CRSP; Colorado: Contract for 2 acre-feet to support an augmentation plan, Case No. 97CW49, Water Division Court No. 4, State of Colorado, to provide for pond evaporative depletions during the non-irrigation season.

Completed contract action:

9. Grand Valley Water Users Association, Orchard Mesa ID, and Public Service Company of Colorado, Grand Valley Project, Colorado: Water service contract for the utilization of project water for cooling purposes for a steam electric generation plant. Contract executed on January 1, 2003.

Great Plains Region: Bureau of Reclamation, PO Box 36900, Federal Building, 316 North 26th Street, Billings, Montana 59107-6900, telephone 406-247-7790.

New contract actions:

44. Frenchman-Cambridge ID, Frenchman Unit, P-SMBP, Nebraska: Proposed contract amendment—request for deferment of annual payment due to severe drought.

45. Frenchman Valley ID, Frenchman Unit, P-SMBP, Nebraska: Proposed contract amendment—request for deferment of annual payment due to severe drought.

Discontinued contract action:

34. Northern Colorado Water Conservancy District, Colorado-Big Thompson Project, Colorado: Acting by and through the Pleasant Valley Pipeline Project Water Activity Enterprise, beginning discussions concerning a long-term contract for conveyance of nonproject water through Colorado-Big Thompson Project facilities.

Completed contract actions:

6. Pathfinder ID, North Platte Project, Nebraska: Negotiation of a contract regarding SOD program modifications of Lake Alice Dam No. 1 Filter/Drain.

8. Angostura ID, Angostura Unit, P-SMBP, South Dakota: A 25-year long-term contract was entered into on January 28, 2003, to provide a water supply for the Angostura ID. Reclamation is working to implement the environmental commitments in the Environmental Impact Statement. An agreement on efficiency improvements and use of saved water is being developed.

35. Miles Land and Livestock Co. (Individual), Alcova Reservoir, Kendrick Project, Wyoming: Negotiate a long-term contract for annual conveyance of up to 153.27 acre-feet of nonproject water through the Casper Canal, Wyoming.

Dated: March 25, 2003.
Wayne O. Deason,
Acting Director, Program and Policy Services.

[FR Doc. 03-10506 Filed 4-28-03; 8:45 am]

BILLING CODE 4310-MN-P